DEPARTMENT OF TRANSPORTATION

Federal Aviation Administration

14 CFR Part 39

[Docket No. FAA-2014-0007; Directorate Identifier 2012-NM-038-AD; Amendment 39-17889; AD 2014-13-13]

RIN 2120-AA64

Airworthiness Directives; Fokker Services B.V. Airplanes

AGENCY: Federal Aviation Administration (FAA), Department of Transportation (DOT).

ACTION: Final rule.

SUMMARY: We are adopting a new airworthiness directive (AD) for all Fokker Services B.V. Model F.28 Mark 0070 and 0100 airplanes. This AD was prompted by reports that the bracket of the rod in the carbon fiber reinforced plastic (CFRP) main landing gear (MLG) outboard door had detached. In addition, we received reports of broken recessed heads on titanium attachment bolts of the operating rod brackets on the modified CFRP MLG outboard doors. This AD requires a detailed inspection of the CFRP MLG outboard door for play or cracks in the recessed countersunk heads of the operating rod bracket attachment bolts; replacement of the bolt if necessary; and, for certain airplanes, modification of the CFRP MLG outboard doors and attachment to the MLG. We are issuing this AD to detect and correct the affected MLG from moving to the down and locked position, which could result in MLG collapse during landing or roll-out, and consequent damage to the airplane and injury to passengers.

DATES: This AD becomes effective September 2, 2014.

The Director of the Federal Register approved the incorporation by reference of certain publications listed in this AD as of September 2, 2014.

ADDRESSES: You may examine the AD docket on the Internet at http://www.regulations.gov/#!docketDetail;D=FAA-2014-0007; or in person at the Docket Management Facility, U.S. Department of Transportation, Docket Operations, M-30, West Building Ground Floor, Room W12-140, 1200 New Jersey Avenue SE., Washington, DC.

For service information identified in this AD, contact Fokker Services B.V., Technical Services Dept., P.O. Box 1357, 2130 EL Hoofddorp, the Netherlands; telephone +31 (0)88-6280-350; fax +31 (0)88-6280-111; email technicalservices@fokker.com; Internet http://www.myfokkerfleet.com. You may view this referenced service information at the FAA, Transport Airplane Directorate, 1601 Lind Avenue SW., Renton, WA. For information on the availability of this material at the FAA, call 425-227-1221.

FOR FURTHER INFORMATION CONTACT: Tom Rodriguez, Aerospace Engineer, International Branch, ANM-116, Transport Airplane Directorate, FAA, 1601 Lind Avenue SW., Renton, WA 98057-3356; telephone 425-227-1137; fax 425-227-1149.

SUPPLEMENTARY INFORMATION:

Discussion

We issued a notice of proposed rulemaking (NPRM) to amend 14 CFR part 39 by adding an AD that would apply to all Fokker Services B.V. Model F.28 Mark 0070 and 0100 airplanes. The NPRM published in the Federal Register on February 3, 2014 (79 FR 6109).

The European Aviation Safety Agency (EASA), which is the Technical Agent for the Member States of the European Community, has issued Airworthiness Directive 2012-0023, dated February 6, 2012 (referred to after this as the Mandatory Continuing Airworthiness Information, or “the MCAI”), to correct an unsafe condition for all Fokker Services B.V. Model F.28 Mark 0070 and 0100 airplanes. The MCAI states:

In 2005, several occurrences were reported where the bracket of the rod in the Carbon Fibre Reinforced Plastic (CFRP) MLG outboard door had detached, preventing the MLG to lock properly when selected down. Prompted by these reports, CAA-NL [Civil Aviation Authority-Netherlands] issued AD NL-2006-001 [http://ad.easa.europa.eu/blob/easa_ad_2006_0002_NL2006001.pdf/AD_NL-2006-001_1] (EASA approval 2006-0002) to require the inspection and modification of the attachment of the operating rod bracket as detailed in Fokker Service Bulletin (SB) SBF100-52-080.

After that [EASA] AD was issued, several operators reported broken recessed heads of titanium attachment bolts of the operating rod bracket on modified (i.e. post-SBF100-52-080) CFRP MLG outboard doors. In such a situation, the remaining bolt shafts can get pulled through the external repair patch and the carbon fibre door outer skin, causing the operating rod, with the detached bracket, to get stuck between the MLG main fitting and wing lower skin. The primary factor to the cause of breaking bolt heads has been determined to be incorrect adjustment of the MLG outboard door.

This condition, if not detected and corrected, would prevent the affected MLG from moving to the down and locked position, possibly resulting in MLG collapse during landing or roll-out and consequent damage to the aeroplane and/or injury to the occupants.

To address this potential unsafe condition, Fokker Services has published SBF100-52-090, providing modification instructions to install an improved attachment of the MLG outboard door operating rod.

For the reasons described above, this new [EASA] AD requires a one-time detailed inspection for play or cracks in the recessed bolt heads and, depending on findings, applicable corrective actions, modification of the operating rod bracket attachment to the CFRP MLG outboard door, and introduction of a weaker (aluminum) bolt in the attachment of the MLG outboard door operating rod.

You may examine the MCAI in the AD docket on the Internet at http://www.regulations.gov/#!docketDetail;D=FAA-2014-0007-0002.

Comments

We gave the public the opportunity to participate in developing this AD. We received no comments on the NPRM (79 FR 6109, February 3, 2014) or on the determination of the cost to the public.

“Contacting the Manufacturer” Paragraph in This AD

Since late 2006, we have included a standard paragraph titled “Airworthy Product” in all MCAI ADs in which the FAA develops an AD based on a foreign authority's AD.

The MCAI or referenced service information in an FAA AD often directs the owner/operator to contact the manufacturer for corrective actions, such as a repair. Briefly, the Airworthy Product paragraph allowed owners/operators to use corrective actions provided by the manufacturer if those actions were FAA-approved. In addition, the paragraph stated that any actions approved by the State of Design Authority (or its delegated agent) are considered to be FAA-approved.

In the NPRM (79 FR 6109, February 3, 2014), we proposed to prevent the use of repairs that were not specifically developed to correct the unsafe condition, by requiring that the repair approval provided by the State of Design Authority or its delegated agent specifically refer to this FAA AD. This change was intended to clarify the method of compliance and to provide operators with better visibility of repairs that are specifically developed and approved to correct the unsafe condition. In addition, we proposed to change the phrase “its delegated agent” to include a design approval holder (DAH) with State of Design Authority design organization approval (DOA), as applicable, to refer to a DAH authorized to approve required repairs for the proposed AD.

No comments were provided to the NPRM (79 FR 6109, February 3, 2014) about these proposed changes. However, a comment was provided for another NPRM, Directorate Identifier 2012-NM-101-AD (78 FR 78285, December 26, 2013). The commenter stated the following: “The proposed wording, being specific to repairs, eliminates the interpretation that Airbus messages are acceptable for approving minor deviations (corrective actions) needed during accomplishment of an AD mandated Airbus service bulletin.”

This comment has made the FAA aware that some operators have misunderstood or misinterpreted the Airworthy Product paragraph to allow the owner/operator to use messages provided by the manufacturer as approval of deviations during the accomplishment of an AD-mandated action. The Airworthy Product paragraph does not approve messages or other information provided by the manufacturer for deviations to the requirements of the AD-mandated actions. The Airworthy Product paragraph only addresses the requirement to contact the manufacturer for corrective actions for the identified unsafe condition and does not cover deviations from other AD requirements. However, deviations to AD-required actions are addressed in 14 CFR 39.17, and anyone may request the approval for an alternative method of compliance to the AD-required actions using the procedures found in 14 CFR 39.19.

To address this misunderstanding and misinterpretation of the Airworthy Product paragraph, we have changed that paragraph and retitled it “Contacting the Manufacturer.” This paragraph now clarifies that for any requirement in this AD to obtain corrective actions from a manufacturer, the action must be accomplished using a method approved by the FAA, the European Aviation Safety Agency (EASA), or Airbus's EASA DOA. Where necessary throughout this AD, we also replaced any reference to approvals of corrective actions with a reference to the Contacting the Manufacturer paragraph.

The Contacting the Manufacturer paragraph also clarifies that, if approved by the DOA, the approval must include the DOA-authorized signature. The DOA signature indicates that the data and information contained in the document are EASA-approved, which is also FAA-approved. Messages and other information provided by the manufacturer that do not contain the DOA-authorized signature approval are not EASA-approved, unless EASA directly approves the manufacturer's message or other information.

This clarification does not remove flexibility previously afforded by the Airworthy Product paragraph. Consistent with long-standing FAA policy, such flexibility was never intended for required actions. This is also consistent with the recommendation of the Airworthiness Directive Implementation Aviation Rulemaking Committee to increase flexibility in complying with ADs by identifying those actions in manufacturers' service instructions that are “Required for Compliance” with ADs. We continue to work with manufacturers to implement this recommendation. But once we determine that an action is required, any deviation from the requirement must be approved as an alternative method of compliance.

Other commenters to the NPRM discussed previously, Directorate Identifier 2012-NM-101-AD (78 FR 78285, December 26, 2013), pointed out that in many cases the foreign manufacturer's service bulletin and the foreign authority's MCAI might have been issued some time before the FAA AD. Therefore, the DOA might have provided U.S. operators with an approved repair, developed with full awareness of the unsafe condition, before the FAA AD is issued. Under these circumstances, to comply with the FAA AD, the operator would be required to go back to the manufacturer's DOA and obtain a new approval document, adding time and expense to the compliance process with no safety benefit.

Based on these comments, we removed the requirement that the DAH-provided repair specifically refer to this AD. Before adopting such a requirement, the FAA will coordinate with affected DAHs and verify they are prepared to implement means to ensure that their repair approvals consider the unsafe condition addressed in this AD. Any such requirements will be adopted through the normal AD rulemaking process, including notice-and-comment procedures, when appropriate. We also have decided not to include a generic reference to either the “delegated agent” or “DAH with State of Design Authority design organization approval,” but instead we have provided the specific delegation approval granted by the State of Design Authority for the DAH in the Contacting the Manufacturer paragraph of this AD.

Conclusion

We reviewed the relevant data and determined that air safety and the public interest require adopting this AD with the changes described previously and minor editorial changes. We have determined that these minor changes:

• Are consistent with the intent that was proposed in the NPRM (79 FR 6109, February 3, 2014) for correcting the unsafe condition; and

• Do not add any additional burden upon the public than was already proposed in the NPRM (79 FR 6109, February 3, 2014).

We also determined that these changes will not increase the economic burden on any operator or increase the scope of this AD.

Costs of Compliance

We estimate that this AD affects 4 airplanes of U.S. registry.

We also estimate that it will take about 12 work-hours per product to comply with the basic requirements of this AD. The average labor rate is $85 per work-hour. Required parts will cost about $10,000 per product. Based on these figures, we estimate the cost of this AD on U.S. operators to be $44,080, or $11,020 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2014-0007; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-13-13 Fokker Services B.V.: Amendment 39-17889. Docket No. FAA-2014-0007; Directorate Identifier 2012-NM-038-AD.

(a) Effective Date

This AD becomes effective September 2, 2014.

(b) Affected ADs

None.

(c) Applicability

This AD applies to Fokker Services B.V. Model F.28 Mark 0070 and 0100 airplanes, certificated in any category, all serial numbers.

(d) Subject

Air Transport Association (ATA) of America Code 52, Doors.

(e) Reason

This AD was prompted by reports that the bracket of the rod in the carbon fiber reinforced plastic (CFRP) main landing gear (MLG) outboard door had detached. In addition, we received reports of broken recessed heads on titanium attachment bolts of the operating rod brackets on the modified CFRP MLG outboard doors. We are issuing this AD to detect and correct the affected MLG from moving to the down and locked position, which could result in MLG collapse during landing or roll-out, and consequent damage to the airplane and injury to passengers.

(f) Compliance

Comply with this AD within the compliance times specified, unless already done.

(g) Inspection

Within 9 months after the effective date of this AD, do a detailed inspection of the CFRP MLG outboard door for play and cracks in the recessed countersunk heads of the operating rod bracket attachment bolts, in accordance with Part 1 of the Accomplishment Instructions of Fokker Service Bulletin SBF100-52-090, dated November 17, 2011, including Fokker Manual Change Notification F100-147, dated October 28, 2011, as revised by Fokker Service Bulletin Change Notification SBF100-52-090/01, dated January 24, 2012.

(h) Corrective Action

If, during the inspection required by paragraph (g) of this AD, any play or crack is found in any countersunk bolt head, and the configuration deviation list (CDL) item 52-07 cannot be applied: Before further flight, replace the bolt with a new bolt, in accordance with the Accomplishment Instructions of Fokker Service Bulletin SBF100-52-090, dated November 17, 2011, including Fokker Manual Change Notification F100-147, dated October 28, 2011, as revised by Fokker Service Bulletin Change Notification SBF100-52-090/01, dated January 24, 2012.

(i) Modification Prior to CFRP Door Installation

At the applicable time specified in paragraph (i)(1) or (i)(2) of this AD: Modify the CFRP MLG outboard doors and attachment to the MLG, in accordance with Part 2 of the Accomplishment Instructions of Fokker Service Bulletin SBF100-52-090, dated November 17, 2011, including Fokker Manual Change Notification F100-147, dated October 28, 2011, as revised by Fokker Service Bulletin Change Notification SBF100-52-090/01, dated January 24, 2012. Accomplishing the modification in this paragraph terminates the inspection required by paragraph (g) of this AD.

(1) For airplanes on which a CFRP MLG outboard door is installed as of the effective date of this AD: Do the modification within 24 months after the effective date of this AD.

(2) For airplanes on which an aluminum door is installed as of the effective date of this AD: Do the modification prior to the installation of the CFRP MLG outboard door.

Note 1 to paragraph (i) of this AD: The aluminum MLG outboard doors and the CFRP MLG outboard doors are two-way interchangeable.

(j) Parts Installation Prohibition

As of the effective date of this AD, do not install on any airplane an MLG outboard door having part number (P/N) D13310-401 through -418, or any MLG outboard door assembly having P/N D13312-401 through -410.

Note 2 to paragraph (j) of this AD: Civil Aviation Authority-Netherlands (CAA-NL) AD NL-2006-001, dated January 5, 2006 (European Aviation Safety Agency (EASA) approval 2006-002), contains guidance for modifying spare MLG outboard door assemblies having P/N D13312-401 through -410, to P/N D13312-7XX standard, as specified in the Accomplishment Instructions of Fokker Component Service Bulletin D13312-52-09, December 12, 2005, which is not incorporated by reference in this AD.

(k) Parts Installation Limitation

As of the effective date of this AD, do not install on any airplane a P/N D13310-701 through -708 MLG outboard door, or a P/N D13312-702 through -711 MLG outboard door assembly, unless the part has been inspected for cracks in the recessed bolt heads, all applicable corrective actions have been done, and the CFRP MLG outboard door has been modified, in accordance with the Accomplishment Instructions of Fokker Component Service Bulletin D13312-52-015, dated November 17, 2011.

(l) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, WA 98057-3356; telephone 425-227-1137; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the EASA; or Fokker Services B.V.'s EASA Design Organization Approval (DOA). If approved by the DOA, the approval must include the DOA-authorized signature.

(m) Related Information

(1) Refer to Mandatory Continuing Airworthiness Information EASA Airworthiness Directive 2012-0023, dated February 6, 2012, for related information. This MCAI may be found in the AD docket on the Internet at http://www.regulations.gov/#!documentDetail;D=FAA-2014-0007-0002.

(2) Service information identified in this AD that is not incorporated by reference may be viewed at the addresses specified in paragraphs (n)(3) and (n)(4) of this AD.

(n) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Fokker Component Service Bulletin D13312-52-015, dated November 17, 2011.

(ii) Fokker Service Bulletin SBF100-52-090, dated November 17, 2011, including Fokker Manual Change Notification F100-147, dated October 28, 2011.

(iii) Fokker Service Bulletin Change Notification SBF100-52-090/01, dated January 24, 2012. The page number shown on the first page of this document should read “Page 1 of 2.”

(3) For service information identified in this AD, contact Fokker Services B.V., Technical Services Dept., P.O. Box 1357, 2130 EL Hoofddorp, the Netherlands; telephone +31 (0)88-6280-350; fax +31 (0)88-6280-111; email technicalservices@fokker.com; Internet http://www.myfokkerfleet.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on June 25, 2014.
Jeffrey E. Duven,
Manager, Transport Airplane Directorate, Aircraft Certification Service.

[FR Doc. 2014-17297 Filed 7-25-14; 8:45 am]

BILLING CODE 4910-13-P